DEPARTMENT OF HEALTH AND HUMAN SERVICES

National Institutes of Health

National Institute of Dental & Craniofacial Research; Amended Notice of Meeting

Notice is hereby given of a change in the meeting of the National Advisory Dental and Craniofacial Research Council, September 27, 2010, 8:30 a.m. to September 27, 2010, 3 p.m., National Institutes of Health, Building 31C, 31 Center Drive, 6th Floor, 10, Bethesda, MD 20892 which was published in the Federal Register on August 19, 2010, 75 FRN 51275.

The agenda of the meeting of the Council has been changed so that the closed session will begin at 9:30 a.m. and the open session will begin at 11:15 a.m. The meeting is partially Closed to the public.

Dated: September 2, 2010.
Jennifer S. Spaeth,
Director, Office of Federal Advisory Committee Policy.

[FR Doc. 2010-22682 Filed 9-10-10; 8:45 am]

BILLING CODE 4140-01-P